DEPARTMENT OF AGRICULTURE

Agricultural Marketing Service

[Docket No. AMS-FV-08-0084; FV-08-331]

United States Standards for Grades of Frozen Blueberries

AGENCY: Agricultural Marketing Service, USDA.

ACTION: Notice.

SUMMARY: The Agricultural Marketing Service (AMS), of the United States Department of Agriculture (USDA) prior to undertaking research and other work associated with revising an official grade standard, is soliciting comments on the petition to revise the United States Standards for Grades of Frozen Blueberries. AMS received a petition from blueberry producers asking USDA to consider revising the current U.S. grade standard.

DATES: Comments must be submitted on or before February 20, 2009.

ADDRESSES: Written comments may be mailed to Brian E. Griffin, Inspection and Standardization Section, Processed Products Branch (PPB), Fruit and Vegetable Programs (FV), AMS, USDA, 1400 Independence Avenue, SW., Room 0709, South Building; STOP 0247, Washington, DC 20250; fax: (202) 690-1527; or Internet: http://www.regulations.gov. The United States Standards for Grades of Frozen Blueberries are available either through the address cited above or by accessing the AMS Web site on the Internet at http://www.ams.usda.gov/processedinspection. All comments should reference the docket number, date, and page number of this issue of the Federal Register. All comments submitted in response to this notice will be included in the record and will be made available to the public. Please be advised that the identity of the individuals or entities submitting the comments will be made public on the Internet via http://www.regulations.gov. Comments will be made available for public inspection at the above address during regular business hours, or can be viewed at: http://www.regulations.gov.

FOR FURTHER INFORMATION CONTACT: Brian E. Griffin, Inspection and Standardization Section, USDA, AMS, FV, PPB. Telephone: (202) 720-5021 or (202) 720-4693.

SUPPLEMENTARY INFORMATION: Section 203(c) of the Agricultural Marketing Act of 1946, as amended, directs and authorizes the Secretary of Agriculture “to develop and improve standards of quality, condition, quantity, grade, and packaging, and recommend and demonstrate such standards in order to encourage uniformity and consistency in commercial practices.” AMS is committed to carrying out this authority in a manner that facilitates the marketing of agricultural commodities and makes copies of official standards available upon request. Some of these United States Standards for Grades of Fruits and Vegetables no longer appear in the Code of Federal Regulations but are maintained by USDA/AMS/Fruit and Vegetable Programs. AMS is requesting comments on revising the U.S. Standards for Grades of Frozen Blueberries using the procedures that appear in Part 36 of Title 7 of the Code of Federal Regulations (7 CFR Part 36).

Background

AMS received a petition from the North American Blueberry Council, an association of blueberry producers, requesting the revision of the United States Standards for Grades of Frozen Blueberries. These standards are issued under the Agricultural Marketing Act of 1946 (7 U.S.C. 1621-1627).

The petitioners are requesting the USDA to revise the terminology employed in connection with the product description of frozen blueberries. The current grade standards, effective since May 22, 1957, state that frozen blueberries are prepared from sound, properly ripened fresh fruit of the blueberry bush (Genus Vaccinium), including species or varieties often called huckleberries, but not of the Genus Gaylussacia. To more narrowly define the term blueberry, the petitioners are requesting that the new proposed standard employ the following terms:

“Frozen blueberries are prepared from the sound, properly ripened fresh fruit of the species Vaccinium corymbosum, V. virgatum (syn. V. ashei), V. angustifolium, and V. myrtilloides (some common names: highbush, cultivated, wild, lowbush, southern highbush, rabbiteye), including species and cultivars often called huckleberries, but not of the genus Gaylussacia.” A copy of the petitioners' request is located at http://www.regulations.gov.

Prior to undertaking research and other work associated with revising the grade standards, AMS is soliciting comments on the petition requesting the revision of the U.S. Standards for Grades of Frozen Blueberries. In particular, AMS would welcome comments and information regarding the likely utility of revised terminology to include Vaccinium corymbosum, V. virgatum (syn. V. ashei), V. angustifolium, and V. myrtilloides. Some common names: Highbush, cultivated, wild, lowbush, southern highbush, and rabbiteye, and the probable impact on processors and growers. This notice provides for a 60-day comment period for interested parties to comment on the petition to develop a proposed revision of the standard. Should AMS conclude that there is a need for changes to the standard, detailed work would be undertaken as soon as possible and the eventual proposed grade standards would be published in the Federal Register with a request for comments in accordance with 7 CFR Part 36.

Authority: 7 U.S.C. 1621-1627.

Dated: December 16, 2008.
James E. Link,
Administrator, Agricultural Marketing Service.

[FR Doc. E8-30281 Filed 12-19-08; 8:45 am]

BILLING CODE 3410-02-P